DEPARTMENT OF HEALTH AND HUMAN SERVICES

Centers for Disease Control and Prevention

[60Day-26-0002; Docket No. CDC-2025-0882]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled the 2025 National Blood Collection and Utilization Survey (NBCUS). The NBCUS gathers information from blood collection centers and acute healthcare facilities about blood collections and transfusions in the United States.

DATES: CDC must receive written comments on or before February 3, 2026.

ADDRESSES: You may submit comments, identified by Docket No. CDC-2025-0882 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

2025 National Blood Collection and Utilization Survey—New—National Center for Emerging and Zoonotic Infectious Diseases (NCEZID), Centers for Disease Control and Prevention (CDC).

Background and Brief Description

The 2025 National Blood Collection and Utilization Survey will request information from community-based blood collection centers, hospital-based blood collection centers, and transfusing hospitals. Respondents will be asked to provide information on blood and blood component collections and transfusions in the United States during 2025.

The NBCUS is an HHS/OASH funded project conducted biennially. Since 2013, in close collaboration with OASH, the NBCUS has been performed by the Centers for Disease Control and Prevention (CDC), which has the requisite technical and scientific resources to conduct the survey. The information collected has previously been used to support public health emergencies and inform public policy as well as inform the blood community about the current national blood supply and demand.

Respondents will include transfusing hospitals, hospital blood banks, and community-based blood banks. The response rates for the 2023 NBCUS were 96.2% (51/53) for community-based blood collection facilities, 90.3% (65/72) for hospital-based blood collection facilities, and 85.7% (2195/2561) for transfusing hospitals. Based on the previous iterations of the NBCUS, we expect an overall response rate of almost 85% across all types of facilities. Proposed changes include adjustments to answer options to make them more straightforward, removal of policy questions that were required of blood centers by the end of 2023, defining a blood shortage, and addition of a few new questions. New questions included information about bacterial transfusion-transmitted infections found in blood, length of time any blood shortage lasted, cold storage platelets, pathogen reduced cryoprecipitated units.

CDC will take over NBCUS data collection activities from HHS/OASH and requests OMB approval for an estimated 4,612 annual burden hours. There is no cost to respondents other than their time to participate.

Estimated Annualized Burden Hours
Type of respondents | Form name | Number of respondents | Number of responses per respondent | Average burden per response (in hours) | Total burden (in hours)
Transfusing Hospitals | 2025 National Blood Collection and Utilization Survey | 2,478 | 1 | 105/60 | 4,337
Hospital Blood Banks | 2025 National Blood Collection and Utilization Survey | 104 | 1 | 105/60 | 182
Community-Based Blood Centers | 2025 National Blood Collection and Utilization Survey | 53 | 1 | 105/60 | 93
Total |  |  |  |  | 4,612

Jeffrey M. Zirger,
Lead, Information Collection Review Office, Office of Public Health Ethics and Regulations, Office of Science, Centers for Disease Control and Prevention.

[FR Doc. 2025-22006 Filed 12-4-25; 8:45 am]

BILLING CODE 4163-18-P